DEPARTMENT OF HEALTH AND HUMAN SERVICES

Administration for Children and Families

Administration on Children, Youth and Families, Family and Youth Services Bureau; FY 2005 Discretionary Grants for the Family Violence Prevention and Services Program—Demonstration of Enhanced Services to Children and Youth Who Have Been Exposed to Domestic Violence

Announcement Type: Initial.

Funding Opportunity Number: HHS-2005-ACF-ACYF-EV-0031.

CFDA Number: 93.592.

Due Date For Letter of Intent: Letter of Intent is due June 29, 2005.

Due Date for Applications: Application is due July 25, 2005.

Executive Summary Demonstration of Enhanced Services to Children and Youth Who Have Been Exposed to Domestic Violence

The Administration for Children and Families (ACF) announces this funding opportunity to offer awards for the demonstration of enhanced services for children and youth who have been exposed to domestic violence.

I. Funding Opportunity Description

Authorizing Statutes and Regulations: The Family Violence Prevention and Services Act (the Act) was originally enacted in sections 301-313 of Title III of the “Child Abuse Amendments of 1984” (Pub. L. 98-457, 10/9/84). The Act was most recently amended by the “Keeping Children and Families Safe Act of 2003” (Pub. L. 108-36).

Program and Focus Areas: It is the purpose of these demonstration grants to provide enhanced services and support to the children and youth who have been exposed to domestic violence in order to mitigate the impact of that exposure and increase the opportunity for these children and youth to lead healthy, non-violent, and safe lives as adults. The proposed demonstrations require the collaboration of the State agency that administers the family violence prevention and services programs and the State domestic violence coalition within that state. The collaboration need not be limited to the above entities but must include them as principal participants. The lead applicant may be the coalition or the family violence administrating State agency. The demonstration will address the specific effects of exposure to domestic violence, including the traumatic responses which may inhibit the positive development of children and youth.

Priority Area 1: Demonstration of Enhanced Services to Children and Youth Who Have Been Exposed to Domestic Violence

1. Description

Background: The Safe and Bright Futures Departmental initiative afforded the Family and Youth Services Bureau (FYSB), within the Administration on Children, Youth and Families (ACYF), Administration for Children and Families (ACF), the opportunity to support the development of a more comprehensive set of improved children's services, particularly for children and youth who have been exposed to domestic violence. There exists an abundance of documentation that have as their major premise that growing up in a violent home can dramatically impact children. Various studies have identified the emotional and cognitive costs to children exposed to domestic violence.

In an article for the National Electronic Network on Violence Against Women (VAWnet, 1997) Edleson cited the associated problems with children witnessing violence. (Our use of “witness” should not be equated with the legal sense of the word.) Children who witnessed violence were also found to show more anxiety, loss of self-esteem, depression, anger and temperament problems. These children were also shown to exhibit less skill in understanding how others feel and [to examine] situations from other [persons] perspectives when compared to children from non-violent households. In addition to the behavioral and emotional problems, Edleson also cited cognitive, attitude, and physical functioning inadequacies of children who have witnessed or have been exposed to domestic violence.

Parent-child relationships have been shown to be a key factor in how children are affected by witnessing (being exposed to) domestic violence (Wolfe, Jaffe, Wilson and Zak, 1985). Durant, et al. (1994) found that family support and children's perception of their parental relationship were key parental-child variables in how children were affected. Edleson argues, however, that we need to be aware of the over reliance on a single reporter in the studies that are available, that few investigators have ventured beyond the repeated use of the Child Behavior Checklist or the Trauma Symptoms Checklist. Edleson presses the point that there is not currently a standardized measure developed that addresses the unique problems experienced by children who witness violence at home. These experiences would include: The child's perception of safety, the support network among the family and friends, the effect of visitation arrangements, and changed economic factors. The experience of each child in being exposed to domestic violence is a unique happening. Each child, Edleson argues, depending upon its age, gender, time exposed, and relationships to the adults in their lives, will experience violence in different ways. The ultimate goal is to identify ways to provide safety and services to the children and to the adults who reside in their homes.

The Stop Family Violence Stamp provides the revenue stream for the current funding opportunity in support of enhanced services to children who have been exposed to domestic violence. It is difficult to foretell the length of time that the proceeds from the sale of the stamp will be available but the activity has provided the energy to establish a comprehensive set of enhanced children's services and provide them through a sequence of technical assistance, training and demonstration efforts.

Moreover, the current legislation for the Family Violence Prevention and Services program has projected that at the point that ACF's budget exceeds $130 million a “portion of that excess” must be dedicated to the improvement and provision of services to children who have been exposed to domestic violence. We view this announcement as being preparatory for that activity and providing us with the time and opportunity to engage our State and non-profit partners in the development of those required services, while taking advantage of the work that is progressing with the Safe Start Projects and the Greenbook collaborations.

The need to expand services and supports for children exposed to domestic violence and is particularly acute in at least three areas:

• Expanding the capacity of domestic violence programs to address the needs of children and adolescents coming into emergency shelters. On average, domestic programs provide emergency shelter to twice as many children as adults. As contrasted to those seeking other types of services from a domestic -violence program, those who are seeking emergency shelter are typically experiencing higher levels of violence, are more isolated, and often lack other resources and supports. These children may be at higher risk for ongoing violence and often face the most serious disruptions in their lives due to the violence and their parents' attempts to escape it. This group of sheltered children should be a priority population for any initiative focusing on children exposed to domestic violence.

• Expanding the capacity of domestic violence programs to address the needs of non-sheltered families and their children. The vast majority of families reaching out for services from a domestic violence program neither seek nor need emergency shelter, but instead use other services and supports provided by the programs such as support groups, court and welfare advocacy services, information and referral, and counseling. As with the group of children referenced above, these are children of parents who have sought help in dealing with domestic violence and often need more assistance in dealing with its impact on their children than is currently available.

In both of these two preceding areas, the ability of a community-based domestic violence program, whether shelter-based or not, to provide specialized, age- and culturally-appropriate services and supports to children in the shelter, as well as their abused parent, varies significantly across the country and is primarily a function of the funding available to provide such enhanced children's services.

• Developing and enhancing community-based interventions for children exposed to domestic violence whose parent have not sought services or support from a domestic violence program. For these families, the design and competent use of linguistically- and culturally-competent screening and assessment tools becomes particularly important. Services and treatment, whether provided by faith-based organizations, child and youth agencies, schools, health or mental health agencies, must attend to the safety needs of children AND the abused parent.

Four issues that must be attended to in all program services focusing on children exposed to domestic violence are:

• Ensure that these programs and services attach no stigma to program participation and do not define exposure to domestic violence as per se child abuse or neglect;

• Provide linguistically and culturally competent, as well as developmentally and age appropriate programming and services, which responsibly address confidentiality issues and custody implications;

• Ensure that all professionals working with children as part of these demonstrations receive the training they need to respond appropriately to children exposed to domestic violence; and

• Address the safety of the non-abusing parent and support their ongoing care-giving capacity.

Minimum Requirements: These requirements identify the minimum expectations for the demonstration grants that are to offer and provide services to children who have been exposed to domestic violence. Applicants for these demonstration grants should:

Specifically: Identify, design and test approaches for providing enhanced and direct services for the children of the abused parent being served in shelters or through other services of the domestic violence program; and/or

Develop an expanded capacity to work within community collaborations and with institutional efforts focused on responding to children exposed to domestic violence.

Generally: Provide specialized age- and culturally-appropriate services and support to children in the shelter, as well as to the abused parent, related to their role as parent;

Provide the collaborative prevention/intervention services that will be available for children who have been exposed to domestic violence;

Provide the training that needs to be available to service providers to effectively deliver services to children who have been exposed;

Develop the process and assure the confidentiality of the children who have been exposed, and the adult victim of domestic violence, from sharing information without the informed written consent of the adult;

Provide and design specific services that are responsive to the needs of children who have witnessed domestic violence, these services may include: Respite care; mental health care; counseling; child care; transportation; education; legal advocacy; and supervised visitation;

Provide the linkages and cooperation that must be developed with other helping systems and agencies to ensure services and safety to the child and the adult victim;

Provide and develop educational materials that are age appropriate for intervention and prevention services for children who have been exposed to domestic violence;

Agree to cooperate and to participate in evaluation efforts supported by the Family Violence Prevention and Services Program that will measure the impact and effect of the interventions, collaborations, and comprehensive services to the children and youth who have been exposed to domestic violence; and

Develop a dissemination strategy by which the expertise, information and experience generated in these demonstrations can be distributed for maximum application to providers of services to children and the non-abusive adult victim.

II. Award Information

Funding Instrument Type: Grant.

Anticipated Total Priority Area Funding: $650,000.

Anticipated Number of Awards: 4 to 5.

Ceiling on Amount of Individual Awards: $130,000 per budget period.

Floor on Amount of Individual Awards: None.

Average Projected Award Amount: $130,000 per budget period.

Length of Project Periods: 36 months project with three 12-month budget periods.

III. Eligibility Information

1. Eligible Applicants

State governments, Native American tribal governments (Federally recognized) and

Non-profits having a 501(c)(3) status with the IRS, other than institutions of higher education.

Additional Information on Eligibility

“State governments” refer to State agencies administering family violence programs.

Faith-based and community organizations are eligible to apply under this announcement.

Eligible applicants must present a collaboration, which at minimum consists of the State Domestic Violence Coalition and the State agency administering the family violence program in that state. The collaboration, which may be led by the State Domestic Violence Coalition, should provide documentation explicating the roles and protocols in the collaboration and may also include other helping services such as a child welfare agency, or an Indian Tribal Organization that serves as a local child welfare agency. Other private non-profit organizations/public agencies may be included in these collaborations if they have a documented history of work concerning the impact of domestic violence on children and have proof of their non-profit status, as appropriate.

2. Cost Sharing/Matching

No.

3. Other

All applicants must have a Dun & Bradstreet number. On June 27, 2003 the Office of Management and Budget published in the Federal Register a new Federal policy applicable to all Federal grant applicants. The policy requires Federal grant applicants to provide a Dun & Bradstreet Data Universal Numbering System (DUNS) number when applying for Federal grants or cooperative agreements on or after October 1, 2003. The DUNS number will be required whether an applicant is submitting a paper application or using the government-wide electronic portal (www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

Non-profit organizations applying for funding are required to submit proof of their non-profit status.

Proof of non-profit status is any one of the following:

• A reference to the applicant organization's listing in the Internal Revenue Service's (IRS) most recent list of tax-exempt organizations described in the IRS Code.

• A copy of a currently valid IRS tax exemption certificate.

• A statement from a State taxing body, State attorney general, or other appropriate State official certifying that the applicant organization has a non-profit status and that none of the net earning accrue to any private shareholders or individuals.

• A certified copy of the organization's certificate of incorporation or similar document that clearly establishes non-profit status.

• Any of the items in the subparagraphs immediately above for a State or national parent organization and a statement signed by the parent organization that the applicant organization is a local non-profit affiliate.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Disqualification Factors

Applications that exceed the ceiling amount will be considered non-responsive and will not be considered for funding under this announcement.

Any application that fails to satisfy the deadline requirements referenced in section IV.3 will be considered non-responsive and will not be considered for funding under this announcement.

IV. Application and Submission Information

1. Address To Request Application Package

ACYF Operations Center, c/o The Dixon Group, Attn: FV-FYSB Funding for Children's Services, 118 Q Street, NE., Washington, DC 20002-2132. Phone: 866-796-1591. E-mail: fysb@dixongroup.com.

2. Content and Form of Application Submission

Letter of Intent

All applicants intending to apply for this funding are encouraged to submit the non-binding letter of intent, included in this announcement as attachment A, to the Division of Family Violence, Family and Youth Services Bureau by the due date (see section IV.3). Please fax the letter to the Family and Youth Services Bureau, Administration for Children and Families at (202) 260-9333, Attention: William Riley.

The Division of Family Violence Prevention and Services will use Letter of Intent information to forecast the number of peer review panels needed to review competitive applications. Do not include a description of your proposed project. Failure to submit a Letter of Intent will not impact eligibility to submit an application and will not disqualify an application from competitive review based on non-responsiveness.

Content and Form of Application Submission

The narrative should be typed and double-spaced on a single-side of an 8½″ x 11″ plain white paper, with 1″ margins on all sides. All pages of the narrative (including charts, references/footnotes, tables, exhibits, etc.) must be sequentially numbered, beginning with “Objectives and Need for the Project” (see Section V) as page number one. Applicants should not submit reproductions of larger size paper that has been reduced to meet the size requirement.

The length of the application, including the application forms and all attachments, should not exceed 60 pages. A page is a single side of an 8½″ x 11″ sheet of paper. Applicants are requested not to send pamphlets, maps, brochures or other printed material along with their application as these present photocopy difficulties. These materials, if submitted, will not be included in the review process if they exceed the 60-page limit. Each page of the application will be counted to determine the total length.

You may submit your application to us in either electronic or paper format.

To submit an application electronically, please use the www.Grants.gov/Apply site. If you use Grants.gov, you will be able to download a copy of the application package, complete it off-line, and then upload and submit the application via the Grants.gov site. ACF will not accept grant applications via e-mail or facsimile transmission.

Please note the following if you plan to submit your application electronically via Grants.gov:

• Electronic submission is voluntary, but strongly encouraged.

• When you enter the Grants.gov site, you will find information about submitting an application electronically through the site, as well as the hours of operation. We strongly recommend that you do not wait until the application deadline date to begin the application process through Grants.gov.

• We recommend you visit Grants.gov at least 30 days prior to filing your application to fully understand the process and requirements. We encourage applicants who submit electronically to submit well before the closing date and time so that if difficulties are encountered an applicant can still send in a hard copy overnight. If you encounter difficulties, please contact the Grants.gov Help Desk at 1-800-518-4276 to report the problem and obtain assistance with the system.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on www.Grants.gov

• You must search for the downloadable application package by the CFDA number.

An original and two copies of the complete application are required. The original and each of the two copies must include all required forms, certifications, assurances, and appendices, be signed by an authorized representative, have original signatures, and be submitted unbound.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Standard Forms and Certifications

The project description should include all the information requirements described in the specific evaluation criteria outlined in the program announcement under section V Application Review Information. In addition to the project description, the applicant needs to complete all the standard forms required for making applications for awards under this announcement.

Applicants seeking financial assistance under this announcement must file the Standard Form (SF) 424, Application for Federal Assistance; SF-424A, Budget Information—Non-Construction Programs; SF-424B, Assurances—Non-Construction Programs. The forms may be reproduced for use in submitting applications. Applicants must sign and return the standard forms with their application.

Applicants must furnish prior to award an executed copy of the Standard Form LLL, Certification Regarding Lobbying, when applying for an award in excess of $100,000. Applicants who have used non-Federal funds for lobbying activities in connection with receiving assistance under this announcement shall complete a disclosure form, if applicable, with their applications. Applicants must sign and return the certification with their application.

Applicants must also understand they will be held accountable for the smoking prohibition included within Public Law 103-227, Title XII Environmental Tobacco Smoke (also known as the PRO-KIDS Act of 1994). A copy of the Federal Register notice which implements the smoking prohibition is included with the forms. By signing and submitting the application, applicants are providing the certification and need not mail back the certification with the application.

Applicants must make the appropriate certification of their compliance with all Federal statutes relating to nondiscrimination. By signing and submitting the applications, applicants are providing the certification and need not mail back the certification form. Complete the standard forms and the associated certifications and assurances based on the instructions on the forms. The forms and certifications may be found at: http://www.acf.hhs.gov/programs/ofs/forms.htm.

Please see Section V.1. Criteria, for instructions on preparing the full project description.

3. Submission Dates and Times

Due Date for Letters of Intent: June 29, 2005.

Due Date for Applications: July 25, 2005.

Explanation of Due Dates

The closing time and date for receipt of applications is referenced above. Applications received after 4:30 p.m. eastern time on the closing date will be classified as late.

Deadline: Applications shall be considered as meeting an announced deadline if they are received on or before the deadline time and date referenced in Section IV.6. Applicants are responsible for ensuring applications are mailed or submitted electronically well in advance of the application due date.

Applications hand carried by applicants, applicant couriers, other representatives of the applicant, or by overnight/express mail couriers shall be considered as meeting an announced deadline if they are received on or before the deadline date, between the hours of 8 a.m. and 4:30 p.m., eastern time, at the address referenced in Section IV.6., between Monday and Friday (excluding Federal holidays).

ACF cannot accommodate transmission of applications by facsimile. Therefore, applications transmitted to ACF by fax will not be accepted regardless of date or time of submission and time of receipt.

Late Applications: Applications that do not meet the criteria above are considered late applications. ACF shall notify each late applicant that its application will not be considered in the current competition.

Any application received after 4:30 p.m. eastern time on the deadline date will not be considered for competition.

Applicants using express/overnight mail services should allow two working days prior to the deadline date for receipt of applications. Applicants are cautioned that express/overnight mail services do not always deliver as agreed.

Receipt acknowledgement for application packages will not be provided to applicants who submit their package via mail, courier services, or by hand delivery. However, applicants will receive an electronic acknowledgement for applications that are submitted via http://www.Grants.gov

Extension of Deadlines: ACF may extend application deadlines when circumstances such as acts of God (floods, hurricanes, etc.) occur, or when there are widespread disruptions of mail service, or in other rare cases. A determination to extend or waive deadline requirements rests with the Chief Grants Management Officer.

Checklist

You may use the checklist below as a guide when preparing your application package.

What to submit | Required content | Required form or format | When to submit
Letter of Intent | See Section IV.2. and Attachment A | See Attachment A | June 29, 2005.
Project Summary/Abstract | See Sections IV.2. and V | Found in Sections IV.2. and V | By application due date.
Project Narrative/Description | See Sections IV.2. and V | Found in Sections IV.2. and V | By application due date.
Budget Narrative/Justification | See Section V | Found in Section V | By application due date.
SF424 | See Section IV.2 | See: http://www.acf.hhs.gov/programs/ofs/forms.htm | By application due date.
SF424A | See Section IV.2 | See: http://www.acf.hhs.gov/programs/ofs/forms.htm | By application due date.
SF424B | See Section IV.2 | See: http://www.acf.hhs.gov/programs/ofs/forms.htm | By application due date.
Support Letters | See Section V | Found in Section V | By application due date.
Other: 3rd Party Agreements | See Section Per request | Found in Section V | By application due date.
SF-LLL Certification Regarding Lobbying | See Section IV.2 | See: http://www.acf.hhs.gov/programs/ofs/forms.htm | By date of award.
Certification Regarding Environmental Tobacco Smoke | See Section IV.2 | See: http://www.acf.hhs.gov/programs/ofs/forms.htm | By date of award.
Assurances | See Section IV.2 | Found in Section IV.2 | By date of award.
Proof of non-profit status | See Section III.3 | Found in Section III.3 | By date of award.

Additional Forms

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

What to submit | Required content | Location | When to submit
Survey for Private, Non-Profit Grant Applicants | See form | May be found on http://www.acf.hhs.gov/programs/ofs/forms.htm | By application due date.

4. Intergovernmental Review

State Single Point of Contact (SPOC)

This program is covered under Executive Order 12372, “Intergovernmental Review of Federal Programs,” and 45 CFR part 100, “Intergovernmental Review of Department of Health and Human Services Programs and Activities.” Under the Order, States may design their own processes for reviewing and commenting on proposed Federal assistance under covered programs.

As of October 1, 2004, the following jurisdictions have elected to participate in the Executive Order process: Arkansas, California, Delaware, District of Columbia, Florida, Georgia, Illinois, Iowa, Kentucky, Maine, Maryland, Michigan, Mississippi, Missouri, Nevada, New Hampshire, New Mexico, New York, North Dakota, Rhode Island, South Carolina, Texas, Utah, West Virginia, Wisconsin, American Samoa, Guam, North Mariana Islands, Puerto Rico, and Virgin Islands. As these jurisdictions have elected to participate in the Executive Order process, they have established SPOCs. Applicants from participating jurisdictions should contact their SPOC, as soon as possible, to alert them of prospective applications and receive instructions. Applicants must submit all required materials, if any, to the SPOC and indicate the date of this submittal (or the date of contact if no submittal is required) on the Standard Form 424, item 16a.

Under 45 CFR 100.8(a)(2), a SPOC has 60 days from the application deadline to comment on proposed new or competing continuation awards. SPOCs are encouraged to eliminate the submission of routine endorsements as official recommendations. Additionally, SPOCs are requested to clearly differentiate between mere advisory comments and those official State process recommendations which may trigger the “accommodate or explain” rule.

When comments are submitted directly to ACF, they should be addressed to the U.S. Department of Health and Human Services, Administration for Children and Families, Office of Grants Management, Division of Discretionary Grants, 370 L'Enfant Promenade SW., 4th floor, Washington, DC 20447.

Although the remaining jurisdictions have chosen not to participate in the process, entities that meet the eligibility requirements of the program are still eligible to apply for a grant even if a State, Territory, Commonwealth, etc. does not have a SPOC. Therefore, applicants from these jurisdictions, or for projects administered by federally-recognized Indian Tribes, need take no action in regard to E.O. 12372.

The official list, including addresses, of the jurisdictions elected to participate in E.O. 12372 can be found on the following URL: http://www.whitehouse.gov/omb/grants/spoc.html.

5. Funding Restrictions

Grant awards will not allow reimbursement of pre-award costs.

Construction and purchase of real property are not allowable activities or expenditures under this program.

ACYF will not fund any project where the role of the applicant is to serve as a conduit for funds to organizations other than the applicant. The applicant must have a substantive role in the implementation of the project for which the funding is requested. This prohibition does not bar the making of sub-grants or sub-contracting for specific services or activities needed to conduct the project.

6. Other Submission Requirements

Submission by Mail: An applicant must provide an original application with all attachments, signed by an authorized representative and two copies. The application must be received at the address below by 4:30 p.m. eastern time on or before the closing date. Applications should be mailed to: Operations Center, c/o The Dixon Group, Inc., FV-FYSB Funding for Children's Services, 118 Q Street, NE., Washington, DC 20002-2132.

Attention: Administration on Children, Youth and Families (ACYF).

Hand Delivery: An applicant must provide an original application with all attachments signed by an authorized representative and two copies. The application must be received at the address below by 4:30 p.m. eastern time on or before the closing date. Applications that are hand delivered will be accepted between the hours of 8 a.m. to 4:30 p.m. eastern time, Monday through Friday. Applications should be delivered to: Operations Center, c/o The Dixon Group, Inc., FV-FYSB Funding for Children's Services, 118 Q Street, NE., Washington, DC 20002-2132. Attention: Administration on Children, Youth and Families (ACYF).

Electronic Submission: www.Grants.gov. Please see section IV. 2 Content and Form of Application Submission, for guidelines and requirements when submitting applications electronically.

V. Application Review Information

The Paperwork Reduction Act of 1995 (Pub. L. 104-13)

Public reporting burden for this collection of information is estimated to average 25 hours per response, including the time for reviewing instructions, gathering and maintaining the data needed and reviewing the collection information.

The project description is approved under OMB control number 0970-0139 which expires 4/30/2007. An agency may not conduct or sponsor, and a person is not required to respond to, a collection of information unless it displays a currently valid OMB control number.

1. Criteria

Purpose

The project description provides a major means by which an application is evaluated and ranked to compete with other applications for available assistance. The project description should be concise and complete and should address the activity for which Federal funds are being requested. Supporting documents should be included where they can present information clearly and succinctly. In preparing your project description, information responsive to each of the requested evaluation criteria must be provided. Awarding offices use this and other information in making their funding recommendations. It is important, therefore, that this information be included in the application in a manner that is clear and complete.

Introduction

Applicants required to submit a full project description shall prepare the project description statement in accordance with the following instructions while being aware of the specified evaluation criteria. The text options give a broad overview of what your project description should include while the evaluation criteria identifies the measures that will be used to evaluate applications.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived. For example, describe the population to be served by the program. Explain how the project will reach the targeted population; how it will benefit participants.

Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. Account for all functions or activities identified in the application.

When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Evaluation

Provide a narrative addressing how the conduct of the project and the results of the project will be evaluated. In addressing the evaluation of results, state how you will determine the extent to which the project has achieved its stated objectives and the extent to which the accomplishment of objectives can be attributed to the project. Discuss the criteria to be used to evaluate results, and explain the methodology that will be used to determine if the needs identified and discussed are being met and if the project results and benefits are being achieved. With respect to the conduct of the project, define the procedures to be employed to determine whether the project is being conducted in a manner consistent with the work plan presented and discuss the impact of the project's various activities on the project's effectiveness.

Staff and Position Data

Provide a biographical sketch and job description for each key person appointed. Job descriptions for each vacant key position should be included as well. As new key staff is appointed, biographical sketches will also be required.

Organizational Profiles

Provide information on the applicant organization(s) and cooperating partners, such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. If the applicant is a non-profit organization, submit proof of non-profit status in its application.

The non-profit agency can accomplish this by providing: (a) A reference to the applicant organization's listing in the Internal Revenue Service's (IRS) most recent list of tax-exempt organizations described in the IRS Code; (b) a copy of a currently valid IRS tax exemption certificate, (c) a statement from a State taxing body, State attorney general, or other appropriate State official certifying that the applicant organization has a non-profit status and that none of the net earnings accrue to any private shareholders or individuals; (d) a certified copy of the organization's certificate of incorporation or similar document that clearly establishes non-profit status, (e) any of the items immediately above for a State or national parent organization and a statement signed by the parent organization that the applicant organization is a local non-profit affiliate.

Third-Party Agreements

Provide written and signed agreements between grantees and subgrantees or subcontractors or other cooperating entities. These agreements must detail scope of work to be performed, work schedules, remuneration, and other terms and conditions that structure or define the relationship.

Letters of Support

Provide statements from community, public and commercial leaders that support the project proposed for funding. All submissions should be included in the application OR by application deadline.

Budget and Budget Justification

Provide a budget with line item detail and detailed calculations for each budget object class identified on the Budget Information form. Detailed calculations must include estimation methods, quantities, unit costs, and other similar quantitative detail sufficient for the calculation to be duplicated. Also include a breakout by the funding sources identified in Block 15 of the SF-424.

Provide a narrative budget justification that describes how the categorical costs are derived. Discuss the necessity, reasonableness, and allocability of the proposed costs.

General

Use the following guidelines for preparing the budget and budget justification. Both Federal and non-Federal resources shall be detailed and justified in the budget and narrative justification. “Federal resources” refers only to the ACF grant for which you are applying. “Non-Federal resources” are all other Federal and non-Federal resources. It is suggested that budget amounts and computations be presented in a columnar format: first column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Contractual

Description: Costs of all contracts for services and goods except for those that belong under other categories such as equipment, supplies, construction, etc. Include third party evaluation contracts (if applicable) and contracts with secondary recipient organizations, including delegate agencies and specific project(s) or businesses to be financed by the applicant.

Justification: Demonstrate that all procurement transactions will be conducted in a manner to provide, to the maximum extent practical, open and free competition. Recipients and subrecipients, other than States that are required to use Part 92 procedures, must justify any anticipated procurement action that is expected to be awarded without competition and exceed the simplified acquisition threshold fixed at 41 U.S.C. 403(11) (currently set at $100,000).

Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, upon notification that an award will be made, it should immediately develop a tentative indirect cost rate proposal based on its most recently completed fiscal year, in accordance with the cognizant agency's guidelines for establishing indirect cost rates, and submit it to the cognizant agency. Applicants awaiting approval of their indirect cost proposals may also request indirect costs. When an indirect cost rate is requested, those costs included in the indirect cost pool should not also be charged as direct costs to the grant. Also, if the applicant is requesting a rate which is less than what is allowed under the program, the authorized representative of the applicant organization must submit a signed acknowledgement that the applicant is accepting a lower rate than allowed.

Evaluation Criteria: The following evaluation criteria appear in weighted descending order. The corresponding score values indicate the relative importance that ACF places on each evaluation criterion; however, applicants need not develop their applications precisely according to the order presented. Application components may be organized such that a reviewer will be able to follow a seamless and logical flow of information (i.e., from a broad overview of the project to more detailed information about how it will be conducted).

In considering how applicants will carry out the responsibilities addressed under this announcement, competing applications for financial assistance will be reviewed and evaluated against the following criteria:

Approach 30 Points

The extent to which the application outlines a sound and workable plan of action pertaining to the scope of the project, and details how the proposed work will be accomplished, the provision of services and the range of services to be provided; relates each task to the objectives and identifies key staff members who will be the lead persons; provides a chart indicating the timetable for completing each task, the lead person, and the time committed; cites factors which might accelerate or decelerate the work, giving acceptable reasons for taking this approach as opposed to others; describes and supports any unusual features of the project, such as collaborations, agency and organizational relationships, design or technological innovations, reductions in cost or time, or extraordinary social and community involvement in the planning and implementation.

The extent to which the application describes the evaluation methodology that will be used to determine that the results and benefits identified are being achieved.

Results or Benefits Expected 20 Points

The extent to which the application identifies the results and benefits to be derived, the extent to which they are consistent with the objectives of the application, the extent to which the application indicates the anticipated contributions to service delivery, policy, practice, and theory, and the extent to which the proposed project costs are reasonable in view of the expected results. The extent to which the application identifies, in specific terms, the results and benefits, for children who have been exposed to violence and the adult care giver, and for service providers, to be derived from implementing the proposed project. The extent to which the application describes how the expected results and benefits will relate to previous and/or ongoing demonstration efforts. The extent to which results or benefits expected are quantifiable in nature and able to be evaluated.

Objectives and Need for Assistance 20 Points

Objectives: The extent to which the specific goals and objectives have national or local significance, the clarity of the goals and objectives as they relate to the identified need for and the overall purpose of the project, and their applicability to policy and practice. The provision of a detailed discussion of the objectives and the extent to which the objectives are realistic, specific, and achievable.

Need: The extent to which the need for the project and the problems it will address have both national and local significance; the applicability of the project to coordination and service delivery efforts by national, Tribal, State and local governmental and non-profit agencies, and its ultimate impact on domestic violence prevention services and intervention efforts, policies and practice; the relevance of other demonstrations and documentation as it relates to the applicant's knowledge of the need for the project.

Staff and Position Data 5 Points

The extent to which the application describes the staffing pattern for the proposed project, clearly linking responsibilities to project tasks and specifying the contributions to be made by key staff. The extent to which the application describes the variety of skills to be used, relevant educational background and the demonstrated ability to produce final results that are usable and in accord with the project's objectives.

Budget and Budget Justification 5 Points

The extent to which the application relates the proposed budget to the level of effort required to obtain project objectives and provide a cost/benefit analysis. The extent to which the application demonstrates that the project's costs are reasonable in view of the anticipated results.

Organizational Profiles 5 Points

The extent to which the application describes the qualifications of the project team including their experiences working on similar projects. One or two pertinent paragraphs on each key member of the project team are preferred to resumes.

Evaluation 5 Points

The extent to which the application provides a narrative addressing how the conduct of the project and the results of the project will be evaluated. In addressing the evaluation of results, state how you will determine the extent to which the project has achieved its stated objectives and the extent to which the accomplishment of objectives can be attributed to the project. The extent to which the application discusses the criteria to be used to evaluate results, discusses whether the evaluation will be qualitative or quantitative, and explains the methodology that will be used to determine if the needs identified and discussed are being met and if the project results and benefits are being achieved.

Letters of Support 5 Points

The extent to which the letters from these agencies and organizations discuss the specifics of their commitment (as these letters must be included in the application).

Third-Party Agreements 5 Points

The extent to which the application discusses in detail and provides documentation for any collaborative or coordinated efforts with other agencies or organizations. The extent to which the identification of these agencies or organizations explains how their participation will enhance this project.

2. Review and Selection Process

Since ACF will be using non-Federal reviewers in the process, applicants have the option of omitting from the application copies (not the original) specific salary rates or amounts for individuals specified in the application budget and Social Security Numbers, if otherwise required for individuals. The copies may include summary salary information.

Approved but Unfunded Applications

Applications that are approved but unfunded may be held over for funding in the next funding cycle, pending the availability of funds, for a period not to exceed one year.

VI. Award Administration Information

1. Award Notices

The successful applicants will be notified through the issuance of a Financial Assistance Award document which sets forth the amount of funds granted, the terms and conditions of the grant, the effective date of the grant, the budget period for which initial support will be given, and the total project period for which support is contemplated. The Financial Assistance Award will be signed by the Grants Officer and transmitted via postal mail.

Organizations whose applications will not be funded will be notified in writing.

2. Administrative and National Policy Requirements

Grantees are subject to the requirements in 45 CFR Part 74 (non-governmental) or 45 CFR Part 92 (governmental).

Direct Federal grants, sub-award funds, or contracts under this Family Support Initiative 2005 program shall not be used to support inherently religious activities such as religious instruction, worship, or proselytization. Therefore, organizations must take steps to separate, in time or location, their inherently religious activities from the services funded under this Program. Regulations pertaining to the Equal Treatment For Faith-Based Organizations, which includes the prohibition against Federal funding of inherently religious activities, can be found at either 45 CFR 87.1 or the HHS Web site at: http://www.os.dhhs.gov/fbci/waisgate21.pdf.

3. Reporting Requirements

Programmatic Reports: Semi-annually.

Financial Reports: Semi-annually.

Grantees will be required to submit program progress and financial reports (SF 269) throughout the project period. Program progress and financial reports are due 30 days after the reporting period. In addition, final programmatic and financial reports are due 90 days after the close of the project period.

VII. Agency Contacts

Program Office Contact

William D. Riley, Family Violence Division, 330 C Street, SW., Switzer Building, Room 2117, Washington, DC 20447. Phone: 202-401-5529. E-mail: wriley@acf.hhs.gov.

Grants Management Office Contact

Peter Thompson, Grants Officer, Administration on Children, Youth and Families, 330 C Street, SW., Switzer Building, Room 2070, Washington, DC 20447. Phone: 202-401-4608. E-mail: PAThompson@acf.hhs.gov.

VIII. Other Information

Notice: Beginning with FY 2006, the Administration for Children and Families (ACF) will no longer publish grant announcements in the Federal Register. Beginning October 1, 2005, applicants will be able to find a synopsis of all ACF grant opportunities and apply electronically for opportunities via: www.Grants.gov. Applicants will also be able to find the complete text of all ACF grant announcements on the ACF Web site located at: http://www.acf.hhs.gov/grants/index.html.

Please reference Section IV.3 for details about acknowledgement of received applications.

Dated: June 1, 2005.
Joan E. Ohl,
Commissioner, Administration on Children, Youth & Families.

Attachment A—Letter of Intent

Family Violence Prevention and Services Program

Family and Youth Services Bureau

Administration on Children, Youth and Families

Administration for Children and Families

To Whom It May Concern:

I intend to apply for funds for the Demonstration of Enhanced Services to Children and Youth Who Have Been Exposed to Domestic Violence. These funds will be made through the Family Violence Prevention and Services Discretionary Program for Family and Youth Services Bureau.

Organization:

Address:

Name:

Position:

Date:

Phone:

FAX:

E-mail:

Please fax to (202) 206-9333.

Please submit by June 29, 2005.

[FR Doc. 05-11297 Filed 6-7-05; 8:45 am]

BILLING CODE 4184-01-P